DEPARTMENT OF EDUCATION

[Docket No.: ED-2020-SCC-0106]

Agency Information Collection Activities; Comment Request; G5 System Post Award Budget Drawdown E-Form

AGENCY: Department of Education (ED).

ACTION: Notice.

SUMMARY: In accordance with the Paperwork Reduction Act of 1995 (44 U.S.C. chapter 3501 et seq.), ED is proposing an extension to an existing information collection request.

DATES: Interested persons are invited to submit comments on or before August 31, 2020.

ADDRESSES: To access and review all the documents related to the information collection listed in this notice, please use http://www.regulations.gov by searching the Docket ID number ED-2020-SCC-0106. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Supervisory Management Analyst of Strategic Collections and Clearance, U.S. Department of Education, 400 Maryland Avenue SW, LBJ, Room 6W208D, Washington, DC 20202-8240.

FOR FURTHER INFORMATION CONTACT: For specific questions related to collection activities, please contact Andrew Brake, 202-453-6136.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: G5 System Post Award Budget Drawdown e-Form.

OMB Control Number: 1855-0028.

Type of Review: Extension of an existing information collection request.

Respondents/Affected Public: Private Sector; State, Local or Tribal Organizations.

Total Estimated Number of Annual Responses: 30,496.

Total Estimated Number of Annual Burden Hours: 30,496.

Abstract: In response to grant monitors need for a better reporting mechanism for grantee budgets, the G5 team developed an electronic budget form for grantees to complete. This electronic form requires grantees to detail the budget categories from which they are expending funds for Department grant monitors to track more carefully the drawdowns and financial management systems of grantees. Although this form may be used by all grantees, at this time only grantees on cost reimbursement or route payment status will be required to use this form when reporting their budget, requesting funds, and accessing funds.

Dated: June 25, 2020.
Kate Mullan,
PRA Coordinator Strategic Collections and Clearance Office of the Chief Data Officer Office of Planning, Evaluation and Policy Development.

[FR Doc. 2020-14041 Filed 6-29-20; 8:45 am]

BILLING CODE 4000-01-P